DEPARTMENT OF COMMERCE

National Oceanic and Atmospheric Administration

Final Damage Assessment and Restoration Plan for the Bayou Verdine and Calcasieu River

AGENCY: National Oceanic and Atmospheric Administration (NOAA), Commerce.

ACTION: Notice of availability.

SUMMARY: Notice is hereby given that a document entitled, “Final Damage Assessment and Restoration Plan and Environmental Assessment for the Bayou Verdine Site, Calcasieu Parish, Louisiana” (Final DARP/EA), has been approved by the State and Federal natural resource trustee agencies (the Trustees). The National Oceanic and Atmospheric Administration is the lead agency publishing this notice in the Federal Register on behalf of the United States Fish & Wildlife Service, acting on behalf of the U.S. Department of the Interior (USFWS/DOI); Louisiana Department of Environmental Quality (LDEQ), and Louisiana Department of Wildlife and Fisheries (LDWF). The Final DARRP/EA is now available to the public. The document describes the Trustees' assessment of natural resource injuries and resource services losses in the upper Calcasieu Estuary due to past releases of hazardous substances from two facilities situated in the upper Calcasieu Estuary, in Calcasieu Parish, LA, that are presently owned and operated by ConocoPhillips Company and Sasol North America Inc. (collectively, the “potentially responsible parties” or PRPs). The Final DARP/EA identifies the restoration project that the Trustees have chosen for use to restore resources and services to compensate the public for assessed losses. The project selected by the Trustees—the Sabine Unit 99 Restoration Project—will create over 14 new acres of marsh, enhance the ecological functioning of approximately 247 acres of existing marsh, and increase the expected functional lifespan of these marshes. The restoration site is within the Sabine National Wildlife Refuge, within the Calcasieu Estuary.

FOR FURTHER INFORMATION CONTACT: For further information contact Jean Cowan, at (225) 578-7924 or e-mail: Jean.Cowan@noaa.gov. The Final DARP/EA is available for downloading at http://www.darrp.noaa.gov (by clicking on the document title in the Bayou Verdine announcement on that page). A copy may also be requested by sending a written request to Jean Cowan of NOAA by e-mail: Jean.Cowan@noaa.gov or by mail to: Jean Cowan, LSU Sea Grant Building, Room 124C, Baton Rouge, LA 70803.

SUPPLEMENTARY INFORMATION: Bayou Verdine is a shallow, sinuous bayou in the upper Calcasieu Estuary, southwest of the City of Westlake and slightly northwest of the City of Lake Charles, in Calcasieu Parish, LA. It originates in an agricultural area immediately north and northwest of petroleum facilities owned and operated by ConocoPhillips Company and Sasol North America Inc., and flows in a south-southeast direction through this industrialized segment before entering the Calcasieu River at Coon Island Loop. Historical operations at these two facilities have resulted in releases of hazardous substances, such as polynuclear aromatic hydrocarbons (PAHs), heavy metals, and other hazardous compounds, into Bayou Verdine and Coon Island Loop, within the Estuary.

The upper Calcasieu Estuary has been the focus of a number of past investigations related to contaminant releases and is the subject of several on-going response or corrective action planning processes under the direction or oversight of the U. S. Environmental Protection Agency (USEPA) and/or LDEQ. The most extensive effort to identify the nature and extent of hazardous substances present in the Estuary to date is the federal-lead Remedial Investigation (RI) of contaminants in sediments, surface water, and biota in the Calcasieu Estuary undertaken by the USEPA in 1999. Results from this investigation, combined with other relevant data and information, prompted the Trustees to pursue a natural resource damage assessment (NRDA) to determine and quantify resource injuries and losses in the Estuary attributable to hazardous substances from the PRPs' facilities, and to develop a restoration plan that would be sufficient to compensate for those losses.

The Trustees' decision to proceed with this NRDA was identified in a “Notice Of Intent To Perform Damage Assessment & Develop Restoration Plan for Natural Resources Injured by Hazardous Substances in Bayou Verdine & Coon Island Loop in Calcasieu Parish, Louisiana” published September 26, 2004, in the American Press, a newspaper of general circulation in Calcasieu Parish, LA. That notice also invited public input regarding potential restoration opportunities in the watershed that the Trustees could consider in developing an appropriate restoration plan. The public was also afforded an opportunity to review and comment on the Trustees' assessment and restoration plan when the plan was released as a Draft DARP/EA on March 27, 2009. 74 FR 13193 (March 26, 2009); American Press, March 27. 2009. The Trustees received no comments on the Draft DARP/EA during its 60-day public comment period. The PRPs were cooperatively involved in the NRDA process as well, consistent with 43 CFR 11.32.

The selected restoration project is expected to be implemented by the PRPs, under the Trustees' oversight, in accordance with the terms of a Consent Decree that will resolve the liability of these PRPs for natural resource damages due to past releases of hazardous substances attributable to these facilities.

In undertaking this NRDA and in releasing this Final DARP/EA, the Trustees are acting in accordance with their designation and authorities under Section 107(f) of the Comprehensive Environmental Response, Compensation, and Liability Act (CERCLA), 42 U.S.C. 9607(f), Section 311 of the Federal Water Pollution and Control Act (FWPCA), 33 U.S.C. 1321, Subpart G of the National Oil and Hazardous Substances Pollution Contingency Plan (NCP), 40 CFR 300.600-300.615, and regulations at 43 CFR part 11 which are applicable to natural resource damage assessments under CERCLA. The Trustees act on behalf of the public under these authorities to protect and restore natural resources injured or lost as a result of discharges or releases of hazardous substances.

Dated: April 21, 2010.
David G. Westerholm,
Director, Office of Response and Restoration, National Ocean Service, National Oceanic and Atmospheric Administration.

[FR Doc. 2010-10106 Filed 4-29-10; 8:45 am]

BILLING CODE 3510-JE-P